ENVIRONMENTAL PROTECTION AGENCY

40 CFR Part 52

[EPA-R03-OAR-2016-0002; FRL-9945-47-Region 3]

Approval and Promulgation of Air Quality Implementation Plans; Pennsylvania; 2011 Base Year Inventories for the 2008 8-Hour Ozone National Ambient Air Quality Standard for the Allentown-Bethlehem-Easton, Lancaster, Pittsburgh-Beaver Valley, and Reading Areas, and the Pennsylvania Portion of the Philadelphia-Wilmington-Atlantic City Area

AGENCY: Environmental Protection Agency (EPA).

ACTION: Direct final rule.

SUMMARY: The Environmental Protection Agency (EPA) is taking direct final action to approve the 2011 base year inventories for the five Pennsylvania marginal nonattainment areas for the 2008 8-hour ozone national ambient air quality standard (NAAQS), the Allentown-Bethlehem-Easton, Lancaster, Pittsburgh-Beaver Valley, and Reading nonattainment areas and the Pennsylvania portion of the Philadelphia-Wilmington-Atlantic City nonattainment area. The Commonwealth of Pennsylvania submitted the emission inventories to meet the nonattainment requirements for marginal ozone nonattainment areas for the 2008 8-hour ozone NAAQS. EPA is approving the 2011 base year emissions inventories for the 2008 8-hour ozone NAAQS as a revision to the Pennsylvania State Implementation Plan (SIP), in accordance with the requirements of the Clean Air Act (CAA).

DATES: This rule is effective on June 27, 2016 without further notice, unless EPA receives adverse written comment by May 26, 2016. If EPA receives such comments, it will publish a timely withdrawal of the direct final rule in the Federal Register and inform the public that the rule will not take effect.

ADDRESSES: Submit your comments, identified by Docket ID No. EPA-R03-OAR-2016-0002 at http://www.regulations.gov, or via email to fernandez.cristina@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Maria A. Pino, (215) 814-2181, or by email at pino.maria@epa.gov.

SUPPLEMENTARY INFORMATION:

I. Background

Ground-level ozone is formed when nitrogen oxides (NOX) and volatile organic compounds (VOC) react in the presence of sunlight. Referred to as ozone precursors, these two pollutants are emitted by many types of pollution sources, including motor vehicles, power plants, industrial facilities, and area wide sources, such as consumer products and lawn and garden equipment. Scientific evidence indicates that adverse public health effects occur following a person's exposure to ozone. These effects are more pronounced in children and adults with lung disease. Breathing air containing ozone can reduce lung function and inflame airways, which can increase respiratory symptoms and aggravate asthma or other lung diseases. In 1979, in response to this scientific evidence, EPA promulgated the first ozone NAAQS, the 0.12 part per million (ppm) 1-hour ozone NAAQS. See 44 FR 8202 (February 8, 1979). EPA had previously promulgated a NAAQS for total photochemical oxidants.

On July 18, 1997, EPA promulgated a revised ozone NAAQS of 0.08 ppm, averaged over eight hours. 62 FR 38855. This standard was determined to be more protective of public health than the previous 1979 1-hour ozone standard. In 2008, EPA revised the 8-hour ozone NAAQS from 0.08 to 0.075 ppm. See 73 FR 16436 (March 27, 2008). On May 21, 2012, the Allentown-Bethlehem-Easton, Lancaster, Pittsburgh-Beaver Valley, Reading, and Philadelphia-Wilmington-Atlantic City areas were designated as marginal nonattainment for the more stringent 2008 8-hour ozone NAAQS. 77 FR 30088.

The Allentown-Bethlehem-Easton nonattainment area is comprised of Carbon, Lehigh, and Northampton Counties, all in Pennsylvania. Lancaster and Reading are single-county nonattainment areas, comprised of Lancaster County, Pennsylvania and Berks County, Pennsylvania, respectively. The Pittsburgh-Beaver Valley nonattainment area is comprised of Allegheny, Armstrong, Beaver, Butler, Fayette, Washington, and Westmoreland Counties, all in Pennsylvania. The Philadelphia-Wilmington-Atlantic City nonattainment areas includes Bucks, Chester, Delaware, Montgomery, and Philadelphia Counties in Pennsylvania, plus counties in Delaware, Maryland, and New Jersey. Under section 172(c)(3) of the CAA, Pennsylvania is required to submit comprehensive, accurate, and current inventories of actual emissions from all sources of the relevant pollutants in its marginal nonattainment areas, i.e., the Allentown-Bethlehem-Easton, Lancaster, Pittsburgh-Beaver Valley, and Reading nonattainment areas, and the Pennsylvania portion of the Philadelphia-Wilmington-Atlantic City nonattainment area.

On October 1, 2015, EPA strengthened the ground-level ozone NAAQS to 0.070 ppm, based on extensive scientific evidence about ozone's effects on public health and welfare. See 80 FR 65292 (October 26, 2015). As required by section 107(d) of the CAA, EPA intends to complete the initial designation process within two years of promulgation of the 2015 ozone NAAQS, i.e., no later than October 1, 2017. This rulemaking does not address the 2015 ozone NAAQS.

II. Summary of SIP Revision

Under CAA section 172(c)(3), states are required to submit a comprehensive, accurate, current accounting of actual emissions from all sources (point, nonpoint, nonroad, and onroad) in the nonattainment area. CAA section 182(a)(1) requires that areas designated as nonattainment and classified as marginal are to submit an inventory of all sources of ozone precursors no later than 2 years after the effective date of designation. EPA's guidance for emissions inventory development calls for actual emissions to be used in the base year inventory. The state must report annual emissions as well as “summer day emissions.” As defined in 40 CFR 51.900(v), “summer day emissions” means, “an average day's emissions for a typical summer work weekday. The state will select the particular month(s) in summer and the day(s) in the work week to be represented.”

On September 30, 2015, the Pennsylvania Department of Environmental Protection (PADEP), submitted a SIP revision entitled, “2011 Base Year Inventory for the Pennsylvania Portion of Five 2008 Ozone Nonattainment Areas: Allentown-Bethlehem-Easton, Lancaster, Philadelphia-Wilmington-Atlantic City, Pittsburgh-Beaver Valley, Reading.” PADEP selected 2011 as its base year for SIP planning purposes, as recommended in EPA's final rule, “Implementation of the 2008 National Ambient Air Quality Standards for Ozone: State Implementation Plan Requirements.” 80 FR 12263 (March 6, 2015). PADEP's 2011 base year inventories include emissions estimates covering the general source categories of stationary point, stationary nonpoint, nonroad mobile, and onroad mobile. In its 2011 base year inventories, PADEP reported actual annual emissions and typical summer day emissions for the months of May through September for NOX, VOC, and carbon monoxide (CO).

Tables 1 through 5 summarize the 2011 VOC, NOX, and CO emission inventory by source sector for Pennsylvania's five marginal nonattainment areas. Annual emissions are given in tons per year (tpy), and summer weekday emissions are given in tons per day (tpd).

Table 1—Summary of 2011 Emissions for the Allentown-Bethlehem-Easton Area
Source sector | Summer weekday (tpd): VOC | Summer weekday (tpd): NOX | Summer weekday (tpd): CO | Annual (tpy): VOC | Annual (tpy): NOX | Annual (tpy): CO
Point | 3.5844 | 24.0763 | 44.5565 | 1,298.2944 | 8,882.4313 | 15,980.1187
Nonpoint | 52.4620 | 4.3983 | 10.7226 | 21,874.0747 | 2,365.4084 | 17,758.0824
Nonroad | 7.3491 | 8.4916 | 81.1983 | 2,624.7749 | 2,372.2160 | 26,305.6727
Highway | 17.1800 | 35.5600 | 172.5900 | 6,169.9800 | 12,833.6100 | 76,800.1200
Total | 80.5755 | 72.5262 | 309.0674 | 31,967.1240 | 26,453.6657 | 136,843.9938

Table 2—Summary of 2011 Emissions for the Lancaster Area
Source sector | Summer weekday (tpd): VOC | Summer weekday (tpd): NOX | Summer weekday (tpd): CO | Annual (tpy): VOC | Annual (tpy): NOX | Annual (tpy): CO
Point | 6.0096 | 3.3279 | 4.9232 | 2,161.8035 | 1,225.2810 | 1,811.4742
Nonpoint | 31.6881 | 4.1839 | 14.0763 | 13,262.0758 | 2,043.6030 | 13,992.7848
Nonroad | 9.4751 | 8.1193 | 75.9137 | 3,854.6239 | 2,369.2314 | 26,064.9100
Highway | 11.9900 | 24.4200 | 121.0300 | 4,233.6300 | 8,879.1200 | 52,716.3700
Total | 59.1628 | 40.0511 | 215.9432 | 23,512.1332 | 14,571.2354 | 94,585.5390

Table 3—Summary of 2011 Emissions for the Pennsylvania Portion of the Philadelphia-Wilmington-Atlantic City Area
Source sector | Summer weekday (tpd): VOC | Summer weekday (tpd): NOX | Summer weekday (tpd): CO | Annual (tpy): VOC | Annual (tpy): NOX | Annual (tpy): CO
Point | 13.8162 | 39.8652 | 35.4149 | 5,044.1788 | 14,466.8247 | 12,605.2393
Nonpoint | 144.0575 | 27.7843 | 24.6034 | 55,434.4159 | 14,394.6064 | 27,032.5230
Nonroad | 41.8480 | 39.2817 | 510.4407 | 14,368.4324 | 11,090.2074 | 162,745.4696
Highway | 60.5800 | 123.3900 | 631.6900 | 21,497.8300 | 43,869.0400 | 259,855.7300
Total | 260.3017 | 230.3212 | 1,202.1490 | 96,344.8571 | 83,820.6785 | 462,238.9619

Table 4—Summary of 2011 Emissions for the Pittsburgh-Beaver Valley Area
Source sector | Summer weekday (tpd): VOC | Summer weekday (tpd): NOX | Summer weekday (tpd): CO | Annual (tpy): VOC | Annual (tpy): NOX | Annual (tpy): CO
Point | 10.6595 | 160.0714 | 120.1636 | 3,900.9235 | 57,329.8382 | 43,988.6819
Nonpoint | 191.5216 | 65.3470 | 85.7973 | 63,326.9810 | 27,064.6374 | 49,340.2937
Nonroad | 24.8491 | 27.7845 | 284.5770 | 9,281.1724 | 7,908.6977 | 93,498.8397
Highway | 43.5400 | 88.8500 | 446.6400 | 16,584.5300 | 32,360.4000 | 210,881.4800
Total | 270.5702 | 342.0529 | 937.1779 | 93,093.6069 | 124,663.5733 | 397,709.2953

Table 5—Summary of 2011 Emissions for the Reading Area
Source sector | Summer weekday (tpd): VOC | Summer weekday (tpd): NOX | Summer weekday (tpd): CO | Annual (tpy): VOC | Annual (tpy): NOX | Annual (tpy): CO
Point | 3.4007 | 8.6847 | 5.4075 | 1,223.7618 | 3,139.5588 | 1,946.4482
Nonpoint | 32.6838 | 4.2975 | 11.0720 | 13,462.6586 | 2,055.8245 | 11,792.2040
Nonroad | 4.5626 | 5.4649 | 46.8275 | 1,650.9746 | 1,528.6220 | 15,312.2966
Highway | 9.8600 | 22.1100 | 98.8800 | 3,479.3500 | 8,073.1900 | 43,022.4700
Total | 50.5071 | 40.5571 | 162.1870 | 19,816.7450 | 14,797.3983 | 72,073.4188

Point sources are large, stationary, identifiable sources of emissions that release pollutants into the atmosphere. Pennsylvania obtained its point source data from the Pennsylvania Air Information Management System (AIMS). PADEP regional offices identify and inventory stationary sources for AIMS through inspections, surveys, and permitting. Inventory data for point sources in Allegheny and Philadelphia Counties was developed by the Allegheny County Health Department (ACHD) and the Philadelphia Air Management Services (AMS), respectively. ACHD and AMS provided their point source data to PADEP and also submitted it to EPA for the National Emission Inventory (NEI).

Nonpoint sources, also known as area sources, are sources of pollution that are small and numerous, and that have not been inventoried as specific point or mobile sources. To inventory these sources, they are grouped so that emissions can be estimated collectively using one methodology. Examples are residential heating emissions and consumer solvents. PADEP calculated nonpoint emissions for each county by multiplying emissions factors specific for each source category with some known indicator of collective activity for each source category, such as population or employment data.

Nonroad sources are mobile sources other than onroad vehicles, including aircraft, locomotives, construction and agricultural equipment, and marine vessels. Emissions from different source categories are calculated using various methodologies. PADEP relied on EPA's nonroad emissions calculations, from the 2011 NEI, version 1. Onroad or highway sources are vehicles, such as cars, trucks, and buses, which are operated on public roadways. PADEP estimated highway emissions using EPA's Motor Vehicle Emission Simulator (MOVES) model, version 2010b.

EPA reviewed Pennsylvania's 2011 base year emission inventories' results, procedures, and methodologies for the Allentown-Bethlehem-Easton, Lancaster, Pittsburgh-Beaver Valley, and Reading nonattainment areas and the Pennsylvania portion of the Philadelphia-Wilmington-Atlantic City nonattainment area and found them to be acceptable and approvable. EPA's review is detailed in two Technical Support Documents (TSD) prepared for this rulemaking, the January 7, 2016 “Technical Support Document (TSD) for the 2011 Base Year Inventory for Areas of Marginal Nonattainment of the 2008 Ozone NAAQS in Pennsylvania” and the January 21, 2016, “Technical Support Document (TSD)—Review of the On-Road Portion of the 2011 Base Year Inventories for the Pennsylvania Portion of the Following Five 2008 8-Hour Ozone National Ambient Air Quality Standard (NAAQS) Nonattainment Areas: Allentown-Bethlehem-Easton, Lancaster, Philadelphia-Wilmington-Atlantic City, Pittsburgh-Beaver Valley, and Reading.” These TSDs are available on line at http://www.regulations.gov, Docket ID No. EPA-R03-OAR-2016-0002.

III. Final Action

EPA is approving the 2011 base year inventories for the 2008 8-hour ozone NAAQS for the Allentown-Bethlehem-Easton, Lancaster, Pittsburgh-Beaver Valley, and Reading nonattainment areas, and the Pennsylvania portion of the Philadelphia-Wilmington-Atlantic City nonattainment area because the inventories were prepared in accordance with requirements in sections 172(c)(3) and 182(a) of the CAA and its implementing regulations including 40 CFR 51.915. EPA is publishing this rule without prior proposal because EPA views this as a noncontroversial amendment and anticipates no adverse comment. However, in the “Proposed Rules” section of today's Federal Register, EPA is publishing a separate document that will serve as the proposal to approve the SIP revision if adverse comments are filed. This rule will be effective on June 27, 2016 without further notice unless EPA receives adverse comment by May 26, 2016. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by June 27, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking action.

This action approving Pennsylvania's 2011 base year inventories for the 2008 8-hour ozone NAAQS for the Allentown-Bethlehem-Easton, Lancaster, Pittsburgh-Beaver Valley, and Reading nonattainment areas, and the Pennsylvania portion of the Philadelphia-Wilmington-Atlantic City nonattainment area may not be challenged later in proceedings to enforce its requirements. (See section 307(b)(2)).

List of Subjects in 40 CFR Part 52

Environmental protection, Air pollution control, Carbon monoxide, Incorporation by reference, Intergovernmental relations, Nitrogen dioxide, Ozone, Reporting and recordkeeping requirements, Volatile organic compounds.

Dated: April 8, 2016.
Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding the entry for “2011 Base Year Inventories for the 2008 8-Hour Ozone National Ambient Air Quality Standard” at the end of the table to read as follows:

§ 52.2020 Identification of plan.

* * * * *

(e) * * *

(1) * * *

Name of non-regulatory SIP revision | Applicable geographic area | State submittal date | EPA approval date | Additional explanation
* * * * * * *
2011 Base Year Inventories for the 2008 8-Hour Ozone National Ambient Air Quality Standard | Allentown-Bethlehem-Easton, Lancaster, Pittsburgh-Beaver Valley, and Reading nonattainment areas and the Pennsylvania portion of the Philadelphia-Wilmington-Atlantic City nonattainment area | 9/30/15 | 4/26/16 [Insert Federal Register citation] | See § 52.2036(bb).

* * * * *

3. Section 52.2036 is amended by adding paragraph (bb) to read as follows:

§ 52.2036 Base year emissions inventory.

* * * * *

(bb) EPA approves, as a revision to the Pennsylvania State Implementation Plan, the 2011 base year emissions inventories for the Allentown-Bethlehem-Easton, Lancaster, Pittsburgh-Beaver Valley, and Reading nonattainment areas, and the Pennsylvania portion of the Philadelphia-Wilmington-Atlantic City nonattainment area for the 2008 8-hour ozone national ambient air quality standard submitted by the Pennsylvania Department of the Environmental on September 30, 2015. The 2011 base year emissions inventories includes emissions estimates that cover the general source categories of point sources, nonroad mobile sources, area sources, onroad mobile sources, and biogenic sources. The pollutants that comprise the inventory are nitrogen oxides (NOX), volatile organic compounds (VOC), and carbon monoxide (CO).

[FR Doc. 2016-09591 Filed 4-25-16; 8:45 am]

BILLING CODE 6560-50-P